DEPARTMENT OF LABOR

Employment and Training Administration

[TA-W-57,019]

Corona Clipper Inc.; Corona, CA; Notice of Termination of Investigation

Pursuant to Section 221 of the Trade Act of 1974, as amended, an investigation was initiated on April 20, 2005, in response to a petition filed by a company official on behalf of workers at Corona Clipper Inc., Corona, California.

The petitioner has requested that the petition be withdrawn. Consequently, the investigation has been terminated.

Signed at Washington, DC, this 28th day of April, 2005.
Linda G. Poole,
Certifying Officer, Division of Trade Adjustment Assistance.

[FR Doc. E5-2420 Filed 5-13-05; 8:45 am]

BILLING CODE 4510-30-P